DEPARTMENT OF TRANSPORTATION

Federal Transit Administration

49 CFR Part 604

[Docket No. FTA-2005-22657]

RIN 2132-AA85

Charter Service Negotiated Rulemaking Advisory Committee

AGENCY: Federal Transmit Administration (FTA), DOT.

ACTION: Notice of meeting location and time of the meeting.

SUMMARY: This notice lists the location and time of the next Charter Bus Negotiated Rulemaking Advisory Committee (CBNRAC) meeting.

DATES: Effective Date: November 22, 2006.

FOR FURTHER INFORMATION CONTACT: Elizabeth Martineau, Attorney-Advisor, Office of the Chief Counsel, Federal Transmit Administration, 202-366-1936 (elizabeth.martineau@dot.gov). Her mailing address at the Federal Transmit Administration at 400 Seventh Street, SW., Room 9316, Washington, DC 20590.

SUPPLEMENTARY INFORMATION:

Meeting Location

The Residence Inn Marriott, 550 Army Navy Drive, Arlington, VA 22202.

Meeting Time

December 6th, 9 a.m.-4:30 p.m.

December 7th, 8:30 a.m.-4 p.m.

Issued this 16th day of November, 2006, in Washington, DC.
James S. Simpson,
Administrator.

[FR Doc. 06-9364 Filed 11-21-06; 8:45am]

BILLING CODE 4910-57-M